FEDERAL MARITIME COMMISSION

Ocean Transportation Intermediary License Reissuances

The Commission gives notice that the following Ocean Transportation Intermediary licenses have been reissued pursuant to section 40901 of the Shipping Act of 1984 (46 U.S.C. 40101).

License No.: 000347F.

Name: T. A. Provence and Company, Incorporated.

Address: 154 State Street, Mobile, AL 36603.

Date Reissued: June 30, 2012.

License No.: 016914F.

Name: Air Sea Cargo Network, Inc.

Address: 6345 Coliseum Way, Oakland, CA 94621.

Date Reissued: June 6, 2012.

Vern W. Hill,
Director, Bureau of Certification and Licensing.

[FR Doc. 2012-19407 Filed 8-7-12; 8:45 am]

BILLING CODE 6730-01-P